DEPARTMENT OF COMMERCE

National Oceanic and Atmospheric Administration

[I.D. 051200F]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The Council and its advisory committees will meet in Portland, OR the week of June 5, 2000. See SUPPLEMENTARY INFORMATION for specific dates and times.

ADDRESSES: All meetings will be held at the Doubletree Hotel-Portland Downtown, 310 SW. Lincoln, Portland, OR.

Council address: North Pacific Fishery Management Council, 605 W. 4th Ave., Suite 306, Anchorage, AK 99501-2252.

FOR FURTHER INFORMATION CONTACT: Council staff, telephone: 907-271-2809.

SUPPLEMENTARY INFORMATION: The Advisory Panel will begin at 8:00 a.m., Monday, June 5, and continue through Thursday, June 8. The Scientific Committee will begin at 8:00 a.m. on Monday, June 5, and continue through Wednesday, June 7.

The Council will begin their plenary session at 8:00 a.m. on Wednesday, June 7, continuing through Monday, June 12. All meetings are open to the public except Executive Sessions which may be held during the week to discuss litigation and/or personnel matters.

Council: The agenda for the Council's plenary session will include the following issues. The Council may take appropriate action on any of the issues identified.

1. Reports

(a) Executive Director's Report.

(b) State Fisheries Report by Alaska Dept. of Fish and Game.

(c) NMFS Management Report.

(d) Enforcement and Surveillance reports by NMFS and the Coast Guard.

2. Observer Program:

(a) Final action on regulatory amendments.

(b) Observer Committee Report.

3. American Fisheries Act:

(a) Final action on inshore cooperative structure.

(b) Initial review of groundfish processor sideboards and excessive share caps.

(c) Review crab processing capacity and activities during 2000 opilio season.

(d) Review methods for allocating pollock to inshore cooperatives, calculations of Pacific cod sideboards, and crab sideboard exemptions.

(e) Status report on development of Supplemental Environmental Impact Statement for the American Fisheries Act.

4. Steller Sea Lion Protection:

(a) Status report on Reasonable and Prudent Alternatives for Pacific cod.

(b) Report on Russian sea lion research and management.

5. Staff Tasking:

(a) Review current tasking and proposals received; direction to staff on new amendments/analyses.

(b) Determine next steps for rationalization of Gulf of Alaska Pacific cod.

(c) Provide staff direction on development of Gulf of Alaska cooperatives.

(d) Provide staff direction for next steps in essential fish habitat stakeholder process; determine need for revisions to crab fishery management plan and halibut regulations to protect corals and sponges.

6. Magnuson-Stevens Act Reauthorization Issues:

Review current legislative proposals and recommendations from Council Chairmen's meeting.

7. Groundfish Management:

(a) Status report on development of groundfish Supplemental Environmental Impact Statement.

(b) Initial review of amendment to revise process for setting annual fishery specifications.

8. Crab Management:

(a) Final action on rebuilding plans for St. Matthew blue and Opilio crabs.

(b) Updates on crab cooperatives and permit buyback program.

(c) Crab Interim Action Committee report on appeals.

Advisory Meetings

Advisory Panel: With the exception of the reports listed under Item 1, the agenda for the Advisory Panel will mirror that of the Council listed above.

Scientific and Statistical Committee (SSC): The Scientific and Statistical Committee will address the following items on the Council agenda:

1. Inshore cooperative structure and groundfish processing sideboards and excessive share caps.

2. Observer program changes.

3. Groundfish Management:

(a) Status report on development of groundfish Supplemental Environmental Impact Statement; and

(b) Initial review of amendment to revise process for setting annual fishery specifications.

4. Steller sea lion protection.

5. Review of halibut charter individual fishing quota program analytical outline.

Other Committee/Workgroup & Industry Meetings

During the meeting week, the following groups will hold meetings to discuss various agenda issues of interest:

Crab Permit Buyback Industry Meeting: Monday, June 5, 7:00 p.m.

Crab Interim Action Committee: Tuesday, June 6, 1:00 p.m.

Crab Cooperative Industry Meeting: Tuesday, June 6, 7:00 p.m.

Gulf of Alaska Cooperative Committee: Thursday, June 8, 6:00 p.m.

Ecosystems Committee: Friday, June 9, 6:00 p.m.

Other committees and workgroups may hold impromptu meetings throughout the meeting week. Such meetings will be announced during regularly-scheduled meetings of the Council, Advisory Panel, and SSC, and will be posted at the hotel.

Although non-emergency issues not contained in this agenda may come before this Council for discussion, in accordance with the Magnuson-Stevens Fishery Conservation and Management Act, those issues may not be the subject of formal Council action during this meeting. Council action will be restricted to those issues specifically identified in the agenda and any issues arising after publication of this notice that require emergency action under section 305(c) of the Magnuson-Stevens Act, provided the public has been notified of the Council's intent to take final action of address the emergency.

Special Accommodations

These meetings are physically accessible to people with disabilities. Requests for sign language interpretation or other auxiliary aids should be directed to Helen Allen at 907-271-2809 at least 7 working days prior to the meeting date.

Dated: May 17, 2000.
Richard W. Surdi,
Acting Director, Office of Sustainable Fisheries, National Marine Fisheries Service.

[FR Doc. 00-12835 Filed 5-19-00; 8:45 am]

BILLING CODE 3510-22-F